DEPARTMENT OF COMMERCE

National Oceanic and Atmospheric Administration

RIN 0648-XA979

Western Pacific Fishery Management Council; Public Meetings

AGENCY: National Marine Fisheries Service (NMFS), National Oceanic and Atmospheric Administration (NOAA), Commerce.

ACTION: Notice of change to public meeting dates and times.

SUMMARY: The Western Pacific Fishery Management Council (Council) announces changes in the dates that the Merizo community and Guam Regional Ecosystem Advisory Committee (REAC) meetings will be held.

DATES: The Merizo Community Meeting will be held on February 29, 2012, between 6 p.m. and 9 p.m. and the Guam REAC on March 1, 2012, between 9 a.m. and 4 p.m. The Merizo Community Meeting will be held at the Merizo Community Center, Merizo, Guam and the Guam REAC will be held at the Guam Hilton Hotel, Tumon Bay, Guam. For specific times and agendas, see SUPPLEMENTARY INFORMATION.

ADDRESSES: Council office, 1164 Bishop Street, Suite 1400, Honolulu, HI 96813; telephone: (808) 522-8220.

Merizo Community Center, Merizo, Guam 96915; telephone: (671) 828-2941.

Guam Hilton Hotel, 202 Hilton Road, Tumon Bay, Guam 96913; telephone: (671) 646-1835.

FOR FURTHER INFORMATION CONTACT: Kitty M. Simonds, Executive Director; telephone: (808) 522-8220.

SUPPLEMENTARY INFORMATION: The original notice published on February 6, 2012 (77 FR 5775). The new dates and agenda items are listed below.

Schedule and Agenda for Merizo Community Meeting

6 p.m.-9 p.m., Wednesday, February 29, 2012

1. Introduction

2. Community Based Monitoring

3. Community Fisheries Development

4. Fishery Issues

5. Other Issues

Schedule and Agenda for Guam REAC Meeting

9 a.m.-4 p.m., Thursday, March 1, 2012

1. Welcome and Introductions

2. Status of 2011 REAC Recommendations

3. Report on Agency Activities

4. Community Marine Management Forum

A. Military Activities

i. Military Closures Impacting Southern Fishing Grounds

ii. Report on Recommendations to US Department of Defense on Military Activities

iii. Improving Fishery Data Collection from Military Areas

iv. Discussion on Options to Mitigate Impacts to Fishing Community Military Activities

B. Update on the Marianas Trench Marine National Monument

i. Report on Monument Monument Scoping Sessions and Management Plan

C. Federal Annual Fisheries Catch Limits

D. Compact Impact Issues

E. Proposed Guam Fisheries Management Act

5. Ocean Monitoring and Data Collection

A. Report on Bio-Sampling Program

B. Habitat Blue Print for Guam

C. Pacific Island Ocean Observe ring System

D. Guam Coral Reef Ecosystem Research Program

E. Report on Data Workshop

F. Discussion and Recommendations

6. Communities and Traditional Fishing Rights

A. First Stewards Climate Change Symposium

B. Guam Village Management

C. Discussion and Recommendations

6. Upcoming Meetings/Workshops

A. Synopsis of Upcoming 153rd Council Meeting Actions

B. Teachers Workshop

C. Western and Central Pacific Fisheries Commission

7. Other Business

8. Public Comment

9. Discussion and Recommendations

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 6, 2012.
Tracey L. Thompson,
Acting Director, Office of Sustainable Fisheries, National Marine Fisheries Service.

[FR Doc. 2012-3017 Filed 2-8-12; 8:45 am]

BILLING CODE 3510-22-P